CONSUMER PRODUCT SAFETY COMMISSION

OMB Approval Under the Paperwork Reduction Act; Standard for the Flammability (Open Flame) of Mattress Sets

AGENCY: Consumer Product Safety Commission.

ACTION: Notice of OMB approval of collection of information.

SUMMARY: This document announces the Office of Management and Budget's (OMB) approval of the Commission's collection of information requirements contained in the Standard for the Flammability (Open Flame) of Mattress Sets, 16 CFR part 1633, under OMB Control No. 3041-0133.

FOR FURTHER INFORMATION CONTACT: Linda Glatz, Management and Program Analyst, at 301-504-7671, or e-mail at lglatz@cpsc.gov.

SUPPLEMENTARY INFORMATION: On March 15, 2006, the Consumer Product Safety Commission published in the Federal Register, 71 FR 13472, a standard for the flammability (open flame) of mattresses pursuant to section 4 of Flammable Fabrics Act, 15 U.S.C. 1193. The standard requires manufacturers (including importers) of mattress sets to perform testing and maintain records of their testing and quality assurance programs, effective July 1, 2007. The Commission submitted the proposed collection of information requirements to OMB for review as required under the Paperwork Reduction Act, 44 U.S.C. 3501-3520. On June 8, 2006, OBM approved the collection of information and issued Control Number 3041-0133, with an expiration date of June 30, 2009. An agency may not conduct or sponsor, and a person is not required to respond to, a collection of information unless it displays a currently valid control number. We are providing this Notice to inform the public that the Commission has received OMB approval under Control Number 3041-0133.

Dated: June 27, 2006.
Todd A. Stevenson,
Secretary, Consumer Product Safety Commission.

[FR Doc. E6-10400 Filed 6-30-06; 8:45 am]

BILLING CODE 6355-01-P